DEPARTMENT OF HEALTH AND HUMAN SERVICES

Meeting of the Advisory Group on Prevention, Health Promotion, and Integrative and Public Health

AGENCY: Office of the Surgeon General of the United States Public Health Service, Office of the Assistant Secretary for Health, Office of the Secretary, Department of Health and Human Services.

ACTION: Notice.

SUMMARY: In accordance with section 10(a) of the Federal Advisory Committee Act, Public Law 92-463, as amended (5 U.S.C. App.), notice is hereby given that a meeting is scheduled to be held for the Advisory Group on Prevention, Health Promotion, and Integrative and Public Health (the “Advisory Group”). The meeting will be open to the public. Information about the Advisory Group and the agenda for this meeting can be obtained by accessing the following Web site: http://www.surgeongeneral.gov/initiatives/prevention/advisorygrp/index.html.

DATES: The meeting will be held on April 20, 2015 from 2:00 p.m. to 3:30 p.m. EST.

ADDRESSES: The meeting will be held via teleconference. Teleconference information will be published closer to the meeting date at: http://www.surgeongeneral.gov/initiatives/prevention/advisorygrp/index.html.

FOR FURTHER INFORMATION CONTACT: Office of the Surgeon General, 200 Independence Ave. SW., Washington, DC 20201; 202-205-9517; prevention.council@hhs.gov.

SUPPLEMENTARY INFORMATION: The Advisory Group is a non-discretionary federal advisory committee that was initially established under Executive Order 13544, dated June 10, 2010, to comply with the statutes under section 4001 of the Patient Protection and Affordable Care Act, Pub. L. 111-148. The Advisory Group was established to assist in carrying out the mission of the National Prevention, Health Promotion, and Public Health Council (the Council). The Advisory Group provides recommendations and advice to the Council.

The Advisory Group was terminated on September 30, 2012, by E. O. 13591, dated November 23, 2011. Authority for the Advisory Group to be re-established was given under E. O. 13631, dated December 7, 2012. Authority for the Advisory Group to continue to operate until September 30, 2015 was given under Executive Order 13652, dated September 30, 2013.

It is authorized for the Advisory Group to consist of not more than 25 non-federal members. The Advisory Group currently has 21 members who were appointed by the President. The membership includes a diverse group of licensed health professionals, including integrative health practitioners who have expertise in (1) worksite health promotion; (2) community services, including community health centers; (3) preventive medicine; (4) health coaching; (5) public health education; (6) geriatrics; and (7) rehabilitation medicine.

The meeting will be held in order to review and approve recommendations developed by the Recommendation Drafting Sub-Committee of the Advisory Group. These recommendations are directed towards the Council, the Surgeon General, the Administration, and other entities.

Members of the public have the opportunity to attend the meeting and/or provide comments to the Advisory Group on April 20, 2015. Public comment will be limited to 3 minutes per speaker. Individuals who wish to attend the meeting and/or provide comments must register by 12:00 p.m. EST on April 13, 2015. In order to register, individuals must send their full name and affiliation via email to prevention.council@hhs.gov. Individuals planning to attend the meeting who need special assistance and/or accommodations, i.e., sign language interpretation or other reasonable accommodations, should indicate so when they register. Members of the public who wish to have materials distributed to the Advisory Group members at this scheduled meeting should submit those materials when they register.

Dated: March 25, 2015.
Corinne M. Graffunder,
Designated Federal Officer, Advisory Group on Prevention, Health Promotion, and Integrative and Public Health, Office of the Surgeon General.

[FR Doc. 2015-07744 Filed 4-3-15; 8:45 am]

BILLING CODE 4163-18-P